OCCUPATIONAL SAFETY AND HEALTH REVIEW COMMISSION

29 CFR Part 2200

Rules of Procedure; Corrections

AGENCY: Occupational Safety and Health Review Commission.

ACTION: Correcting amendments.

SUMMARY: This document makes technical amendments to the final rule published by the Occupational Safety and Health Review Commission in the Federal Register on April 10, 2019 and corrected on August 30, 2019. That rule revised the procedural rules governing practice before the Occupational Safety and Health Review Commission.

DATES: Effective on October 4, 2019.

FOR FURTHER INFORMATION CONTACT: Ron Bailey, Attorney-Advisor, Office of the General Counsel, by telephone at (202) 606-5410, by email at rbailey@oshrc.gov, or by mail at: 1120 20th Street NW, Ninth Floor, Washington, DC 20036-3457.

SUPPLEMENTARY INFORMATION: OSHRC published revisions to its rules of procedure in the Federal Register on April 10, 2019 (84 FR 14554) and published corrections on August 30, 2019 (84 FR 45654). This document makes further technical amendments to the final rule.

List of Subjects in 29 CFR Part 2200

Administrative practice and procedure, Hearing and appeal procedures.

Accordingly, 29 CFR part 2200 is amended by making the following correcting amendments:

PART 2200—RULES OF PROCEDURE

1. The authority citation for part 2200 continues to read as follows:

Authority: 29 U.S.C. 661(g), unless otherwise noted.

Section 2200.96 is also issued under 28 U.S.C. 2112(a).

2. Amend § 2200.7 by revising paragraph (k)(1)(ii) to read as follows:

§ 2200.7 Service, notice, and posting.

* * * * *

(k) * * *

(1) * * *

(ii) A copy of the Secretary's statement of reasons, filed in conformance with § 2200.38(a).

* * * * *

3. Amend § 2200.37 by revising the last sentence of paragraph (d)(4) to read as follows:

§ 2200.37 Petitions for modification of the abatement period.

* * * * *

(d) * * *

(4) * * * The requirements set forth in § 2200.35(b) through (c) shall apply.

* * * * *

4. Amend § 2200.64 by revising the last sentence of paragraph (b) to read as follows:

§ 2200.64 Failure to appear.

* * * * *

(b) * * * See § 2200.90(c).

* * * * *

5. Amend § 2200.73 by revising paragraph (g) to read as follows:

§ 2200.73 Interlocutory review.

* * * * *

(g) When filing effective. A petition for interlocutory review is deemed to be filed only when received by the Commission, as specified in § 2200.8(d)(3)(ii).

6. Amend § 2200.90 by revising paragraph (c) to read as follows:

§ 2200.90 Decisions and reports of Judges.

* * * * *

(c) Relief from default. Until the Judge's report has been docketed by the Executive Secretary, the Judge may relieve a party of default or grant reinstatement under § 2200.101(b), § 2200.52(f)(2), or § 2200.64(b).

* * * * *

7. Amend § 2200.91 by revising paragraph (e) to read as follows:

§ 2200.91 Discretionary review; petitions for discretionary review; statements in opposition to petitions.

* * * * *

(e) When filing effective. A petition for discretionary review is filed when received by the Commission, as specified in § 2200.8(d)(3)(ii).

* * * * *

8. Amend § 2200.93 by revising the first sentence of paragraph (i) to read as follows:

§ 2200.93 Briefs before the Commission.

* * * * *

(i) Brief of an amicus curiae. The Commission may allow a brief of an amicus curiae pursuant to the criteria and time period set forth in § 2200.24. * * *

9. Amend § 2200.211 by revising the first sentence to read as follows:

§ 2200.211 Applicability of subparts A through G.

The provisions of subpart D (§§ 2200.50-2200.57) and §§ 2200.34, 2200.37(d), 2200.38, 2200.71, and 2200.73 will not apply to Simplified Proceedings. * * *

Dated: September 25, 2019.
James J. Sullivan, Jr.,
Chairman.

[FR Doc. 2019-21414 Filed 10-3-19; 8:45 am]

BILLING CODE 7600-01-P